DEPARTMENT OF ENERGY

Federal Energy Regulatory Commission

[Docket No. RP09-791-000]

MoGas Pipeline LLC; Notice of Informal Technical Conference

September 16, 2009.

Take notice that an informal technical conference will be convened in this proceeding commencing at 10 a.m. on Tuesday, September 22, 2009, at the offices of the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

Commission conferences are accessible under section 508 of the Rehabilitation Act of 1973. For accessibility accommodations please send an e-mail to accessibility@ferc.gov or call toll free 866-208-3372 (voice) or 202-208-8659 (TTY), or send a FAX to 202-208-2106 with the required accommodations.

For additional information, please contact Lorna Hadlock. Lorna.Hadlock@FERC.GOV, (202) 502-8737.

Kimberly D. Bose,
Secretary.

[FR Doc. E9-22852 Filed 9-22-09; 8:45 am]

BILLING CODE 6717-01-P